NUCLEAR REGULATORY COMMISSION

[Docket No. NRC-2013-0226]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on November 4, 2013 (78 FR 66076).

1. Type of submission, new, revision, or extension: Revision.

2. The title of the information collection: NRC Form 4, “Cumulative Occupational Dose History.”

3. Current OMB approval number: 3150-0005.

4. The form number if applicable: NRC Form 4.

5. How often the collection is required: On occasion. The NRC does not collect NRC Form 4. However, NRC inspects the NRC Form 4 records at NRC-licensed facilities.

6. Who will be required or asked to report: NRC licensees who are required to comply with Part 20 of Title 10 of the Code of Federal Regulations (10 CFR).

7. An estimate of the number of annual responses: 227,846 (223,700 third party disclosure + 4,146 recordkeepers).

8. The estimated number of annual respondents: 4,146.

9. An estimate of the total number of hours needed annually to complete the requirement or request: 31,234 (24,523 recordkeeping + 6,711 third party disclosure).

10. Abstract: The NRC Form 4 is used to record the summary of an occupational worker's cumulative occupational radiation dose, including prior occupational exposure and the current year's occupational radiation exposure. The NRC Form 4 is used by licensees, and inspected by the NRC, to ensure that occupational radiation doses do not exceed the regulatory limits specified in 10 CFR 20.1501.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice.

Comments and questions should be directed to the OMB reviewer listed below by April 10, 2014. Comments received after this date will be considered if it is practical to do so, but assurance of consideration cannot be given to comments received after this date.

Danielle Y. Jones, Desk Officer, Office of Information and Regulatory Affairs (3150-0005), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 5th day of March 2014.
For the Nuclear Regulatory Commission.
Brenda Miles,
Acting NRC Clearance Officer, Office of Information Services.

[FR Doc. 2014-05174 Filed 3-10-14; 8:45 am]

BILLING CODE 7590-01-P